DEPARTMENT OF COMMERCE

National Oceanic and Atmospheric Administration

RIN 0648-XA266

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene scoping meetings on a proposed amendment addressing crew size limits and earned income requirements.

DATES: The scoping meetings will be held on March 22, 2011 through April 5, 2011 at eight locations throughout the Gulf of Mexico. The scoping meetings will begin at 6 p.m. and will conclude no later than 9 p.m. For specific dates see SUPPLEMENTARY INFORMATION.

ADDRESSES: The scoping meetings will be held in the following locations: St. Petersburg, Key West and Panama City, FL; Kenner, LA; Gulfport, MS; Mobile, AL; Corpus Christi and Galveston, TX.

Council address: Gulf of Mexico Fishery Management Council, 2203 N. Lois Avenue, Suite 1100, Tampa, FL 33607.

FOR FURTHER INFORMATION CONTACT: Dr. Assane Diagne, Economist; Gulf of Mexico Fishery Management Council; telephone: (813) 348-1630 x233.

SUPPLEMENTARY INFORMATION: The Gulf of Mexico Fishery Management Council has scheduled scoping meetings on a proposed amendment addressing crew size and earned income requirements. The amendment will address crew size regulations for dually permitted vessels, i.e., vessels with a charter for-hire permit and a commercial reef fish permit. In addition, the amendment will consider a temporary suspension of income qualification requirements for the renewal of commercial reef fish permits and evaluate modifications to these requirements. The amendment will also consider the elimination of income qualification requirements.

The eight scoping meetings will begin at 6 p.m. and conclude at the end of public testimony or no later than 9 p.m. at the following locations:

• Tuesday, March 22, 2011, Hilton St. Petersburg Carillon Parkway, 950 Lake Carillon Drive, St. Petersburg, FL, telephone: (727) 540-0050;

• Wednesday, March 23, 2011, Harvey Government Center, 1200 Truman Ave., Key West, FL, telephone: (305) 295-5000;

• Monday, March 28, 2011, Hilton Garden Inn, 4535 Williams Blvd., Kenner, LA, telephone: (504) 712-0504

• Tuesday, March 29, 2011, Hilton Garden Inn, 14108 Airport Rd, Gulfport, MS 39503, telephone: (228) 863-4996;

• Wednesday, March 30, 2011, Renaissance Riverview Plaza, 64 S. Water St., Mobile, AL 36602, telephone: (251) 438-4000;

• Thursday, March 31, 2011, Royal American Beach Getaways, 9400 S. Thomas Drive, Panama City Beach, FL 32408, telephone: (850) 230-4681;

• Monday, April 4, 2011, Holiday Inn Emerald Beach, 1002 S. Shoreline Blvd., Corpus Christi, TX, telephone: (361) 883-5731;

• Tuesday, April 5, 2011, Hilton, 5400 Seawall Blvd., Galveston, TX 77551, telephone: (409) 744-1757.

Copies of the scoping document can be obtained by calling (813) 348-1630.

Special Accommodations

These meetings are physically accessible to people with disabilities. Requests for sign language interpretation or other auxiliary aids should be directed to Kathy Pereira at the Council (see ADDRESSES) at least 5 working days prior to the meeting.

Dated: March 2, 2011.
Tracey L. Thompson,
Acting Director, Office of Sustainable Fisheries, National Marine Fisheries Service.

[FR Doc. 2011-5025 Filed 3-4-11; 8:45 am]

BILLING CODE 3510-22-P